ENVIRONMENTAL PROTECTION AGENCY

[FRL-12077-01-R6]

Clean Air Act Operating Permit Program; Order on Petition for Objection to State Operating Permit for CF Industries East Point, LLC, Waggaman Complex, Jefferson Parish, Louisiana

AGENCY: Environmental Protection Agency (EPA).

ACTION: Notice of final order on petition.

SUMMARY: The Environmental Protection Agency (EPA) Administrator signed an order dated June 25, 2024, denying a Petition dated January 16, 2024, from the Harahan/River Ridge Air Quality Group, JOIN for Clean Air, Sierra Club, and Environmental Integrity Project. The Petition requested that the EPA object to a Clean Air Act (CAA) title V operating permit issued by the Louisiana Department of Environmental Quality (LDEQ) to CF Industries East Point, LLC, Waggaman Complex, located in Jefferson Parish, Waggaman, Louisiana.

FOR FURTHER INFORMATION CONTACT: Elizabeth Layton, EPA Region 6 Office, Air Permits Section, (214) 665-2136, layton.elizabeth@epa.gov. The final order and petition are available electronically at: https://www.epa.gov/title-v-operating-permits/title-v-petition-database.

SUPPLEMENTARY INFORMATION: The EPA received a petition from the Harahan/River Ridge Air Quality Group, JOIN for Clean Air, Sierra Club, and Environmental Integrity Project dated January 16, 2024, requesting that the EPA object to the issuance of operating permit no.1340-00352-V9, issued by LDEQ to CF Industries East Point, LLC, Waggaman Complex in Waggaman, Jefferson Parish, Louisiana. On June 25, 2024, the EPA Administrator issued an order denying the Petition. The order explains the basis for the EPA's decision.

Sections 307(b) and 505(b)(2) of the CAA provide that a petitioner may request judicial review of those portions of an order that deny issues in a petition. Any petition for review shall be filed in the United States Court of Appeals for the appropriate circuity no later than September 13, 2024.

Dated: July 8, 2024.
David Garcia,
Director, Air and Radiation Division, Region 6.

[FR Doc. 2024-15387 Filed 7-12-24; 8:45 am]

BILLING CODE 6560-50-P